SURFACE TRANSPORTATION BOARD

49 CFR Parts 1241 and 1251

[Docket No. EP 787]

Updating Class I Rail Carrier Reporting Requirements

AGENCY: Surface Transportation Board.

ACTION: Notice of proposed rulemaking.

SUMMARY: The Board proposes to terminate Class I carriers' supplemental reporting of certain Positive Train Control (PTC) expenditures and to require Class I carriers to report two service metrics on a weekly basis. Because PTC is now fully implemented, the Board proposes deregulatory action to end this reporting. With respect to service-related reporting, the Board proposes to require Class I carriers to report metrics that would advance the Board's objective of ensuring rail service reliability.

DATES: Comments, as described below, are due by October 30, 2025. Replies are due by November 13, 2025.

ADDRESSES: All filings must be submitted to the Surface Transportation Board either via e-filing on the Board's website or in writing addressed to 395 E Street SW, Washington, DC 20423-0001. Filings will be posted to the Board's website and need not be served on other commenters or any other party to the proceeding.

FOR FURTHER INFORMATION CONTACT: Pedro Ramirez at (202) 915-0862. If you require accommodation under the Americans with Disabilities Act, please call (202) 245-0245.

SUPPLEMENTARY INFORMATION:

Positive Train Control Reporting

The Rail Safety Improvement Act of 2008 (RSIA) required Class I rail carriers to implement PTC—an automated safety system designed to prevent certain types of train accidents—by December 31, 2015, on main lines where intercity or commuter rail passenger transportation, as defined in 49 U.S.C. 24102, is regularly provided, and main lines over which five million or more gross tons of annual traffic and poison- or toxic-by-inhalation hazardous materials, as defined in 49 CFR 171.8, 173.115, and 173.132, are transported. 49 U.S.C. 20157(a)(1); see also 49 CFR 236.1019 (main line track exceptions). That deadline was later extended, pursuant to the Positive Train Control Enforcement and Implementation Act of 2015, to December 31, 2018, and railroads were allowed to individually petition the Federal Railroad Administration (FRA) for an alternative schedule and sequence that could further extend the deadline to a date that reflected implementation as soon as practicable but was no more than two additional years. 49 U.S.C. 20157(a)(1), (3)(A)-(D); 49 CFR 1.89.

Under 49 U.S.C. 11145(b)(1), the Board may require rail carriers to file with the Board an annual report containing “an account, in as much detail as the Board may require, of the affairs of the rail carrier.” 49 U.S.C. 11145(b)(1). The Board's regulations require each Class I rail carrier to submit such annual reports, known as R-1 reports, containing information about finances and operating statistics. 49 CFR 1241.11(a).

In response to a petition by Union Pacific Railroad Company (UP) in 2013, the Board adopted, via notice-and-comment rulemaking, a supplement to the annual R-1 reporting requirements specifically addressing PTC expenditures. Reporting Requirements for Positive Train Control Expenses & Invs. (Reporting Requirements), EP 706, slip op. at 3-4 (STB served Aug. 14, 2013). In adopting the rule, the Board explained that:

[The supplement] would provide [the Board] with important information that would help identify transportation industry changes that may require attention by the agency and would assist the Board in preparing financial and statistical summaries and abstracts to provide itself, Congress, other government agencies, the transportation industry, and the public with transportation data useful in making regulatory policy and business decisions.

Id. at 3.

Accordingly, PTC expenditures today are incorporated into R-1 reports under the category of “capital investments and expenses” as well as in a “PTC Supplement” that breaks out PTC expenses from broader categories. See 49 CFR 1241.11(b).¹

¹ R-1 reports, which include the PTC Supplement, are available on the Board's website.

The PTC Supplement requires the carriers to submit PTC versions of schedules 330 (road property and equipment improvements), 332 (depreciation base and rates—road property and equipment), 335 (accumulated depreciation), 352B (investment in railroad property), and 410 (railway operating expenses) containing dollar amounts that reflect only the amounts attributable to PTC for the filing year. See Reporting Requirements, EP 706, slip op. at App. B. The PTC Supplement also contains PTC versions of schedules 700 (mileage operated at close of year), 710 (inventory of equipment), 710S (unit cost of equipment installed during the year), and 720 (track and traffic conditions). See id. Railroads also must report in each supplement schedule PTC-related expenditures for passenger-only service not otherwise captured in the individual schedules. 49 CFR 1241.11(b). In addition to separating capital expenses and operating expenses incurred for PTC, railroads must disclose the value of funds from non-government and government transfers, including grants, subsidies, and other contributions or reimbursements, used or designated to purchase or create PTC assets or to offset PTC costs. Id.

On December 29, 2020, FRA announced that PTC implementation was complete on all required freight and passenger railroad route miles. FRA, Positive Train Control (PTC), https://railroads.dot.gov/research-development/program-areas/train-control/ptc/positive-train-control-ptc (last visited Sept. 23, 2025). FRA also certified that each host railroad's PTC system complies with the technical requirements for PTC systems. Id.

On August 26, 2024, the Association of American Railroads (AAR) filed a petition to reopen Docket No. EP 706 and terminate the PTC Supplement requirement. The Board takes notice of AAR's arguments and is issuing this notice of proposed rulemaking on its own motion.² See 49 CFR 1110.2(a).

² See Reporting Requirements, EP 706, slip op. at 2 (STB served September 30, 2025) (denying AAR's petition as moot).

AAR states that when the railroads requested that the Board adopt the PTC Supplement requirement more than a decade ago, PTC-related capital costs and operating expenditures were “anticipated to be particularly high during the installation stage.” AAR Pet. 1, Reporting Requirements, EP 706. But AAR argues that now, “the vast majority of costs associated with implementing PTC have been dispensed with.” Id. at 4. AAR further asserts that, “[w]ith these costs essentially completed, there is little utility in the continuation of the reporting requirements.” Id.

Additionally, AAR argues that Class I railroads are now “incurring unnecessary costs and expending significant time” to comply with the PTC-related reporting requirements. Id. AAR further argues that remaining PTC costs have been integrated into the cost of purchase or replacement of signal and communications assets and that any associated maintenance expenditures are captured as part of railroads' ongoing maintenance costs in the ordinary course of business. Id. As a result, according to AAR, separating PTC-related asset and maintenance expenses has become challenging and necessarily requires cost allocations and estimates. Id. No replies to AAR's petition in Docket No. EP 706 were filed.

Given that PTC has been fully implemented, the Board finds the benefits from the supplemental reporting, see Reporting Requirements, EP 706, slip op. at 3, no longer justify the burden of generating and reporting the detailed information required by 49 CFR 1241.11(b). Ending these requirements would simplify annual R-1 reporting. The Board therefore proposes to eliminate the PTC Supplement requirement by repealing 49 CFR 1241.11(b). Under this proposal, PTC-related expenditures would still be reflected in the R-1 “capital investments and expenses” totals, but would not be separately identifiable from non-PTC expenditures.³ This modification would further the goals of the rail transportation policy of 49 U.S.C. 10101 by minimizing the need for Federal regulatory control over the rail transportation system, 49 U.S.C. 10101(2), and ensuring the availability of accurate cost information in regulatory proceedings, while minimizing the burden on rail carriers of developing and maintaining the capability of providing such information, 49 U.S.C. 10101(13).

³ The Board also proposes to remove the current note to part 1241, which states that the forms for part 1241 are available on request from the Board's Office of Economics, and add the following note: “[t]he report forms prescribed by § 1241.11 are available at the Surface Transportation Board website.”

Additionally, if the Board adopts the proposed discontinuance of supplemental PTC reporting, the Board proposes to require all Class I carriers to submit a one-time summary document identifying individual line items in their respective R-1 reports that contain PTC-related expenditures representing at least 15% of the line-item amounts.

Service Data Reporting

Rail service reliability is essential to the economy, and the Board prioritizes monitoring rail service for emerging issues so that it can act promptly to address them.⁴ The Board has broad authority to require reports by rail carriers, 49 U.S.C. 11145, and it collects a range of data from Class I carriers that allows the Board and stakeholders to monitor railroad performance. The Board's experience has shown that ongoing, standardized reporting of data allows the Board to observe long-term trends and assess changes in service levels, enabling it to take early action to address potential concerns. Therefore, the Board proposes weekly Class I carrier reporting of two additional service metrics: an original estimated time of arrival (OETA) metric and an industry spot and pull (ISP) metric.⁵ Reporting of these metrics would allow the Board to better monitor service reliability and address possible future regional and national service lapses. Further, Class I carriers largely track the requisite underlying information in the ordinary course of business and have recently reported similar metrics to the Board, so the proposed reporting would not be burdensome.

⁴ See, e.g., Urgent Issues in Freight Rail Serv.—R.R. Reporting, EP 770 (Sub-No. 1) (STB served May 6, 2022) (in response to data indicating rail service performance below historical norms, requiring carriers to submit additional service metrics as well as recovery plans and progress reports); U.S. Rail Serv. Issues, EP 724 (Sub-No. 1) (STB served Apr. 15, 2014) (in response to complaints regarding delayed fertilizer deliveries, directing carriers to report plans to ensure delivery of fertilizer shipments for spring planting of U.S. crops).

⁵ In Reciprocal Switching for Inadequate Service (Reciprocal Switching), EP 711 (Sub-No. 2) (STB served April 30, 2024), the Board adopted regulations to provide for the prescription of reciprocal switching agreements to promote adequate rail service through access to an additional line haul carrier. Under those regulations, eligibility for prescription of a reciprocal switching agreement was to be determined in part using objective performance standards, including OETA- and ISP-based standards, which had definitions of OETA and ISP that were similar, but not identical to those proposed here. The U.S. Court of Appeals for the Seventh Circuit recently vacated the entire rule established in Reciprocal Switching, which includes the reporting requirements, and remanded the matter to the Board for further proceedings. Grand Trunk Corp. v. STB, 143 F.4th 741 (7th Cir. 2025). The Board will address the Court's remand in a future decision. Additionally, the OETA and ISP metrics proposed here implicate, and will assist the Board in monitoring, the issues raised in First-Mile/Last-Mile Service, EP 767 (STB served Sept. 2, 2021).

The Board expects that these requirements would constitute just one component of a broader effort to enhance, focus, and automate the agency's data collection. First, the Board is evaluating ways to improve data visualization on its public website and to improve the transparency and consistency of reporting across the metrics it collects. Second, the Board is considering the utility of certain existing metrics that are not widely referenced or used by the Board, shippers, railroads, or other members of the public. Finally, the Board is continuing its efforts to implement templates and other mechanisms that support automated data ingestion and processing and reduce the data elements associated with reporting. For some data collections, the Board's templates have cut required data points by more than 75 percent while improving agency analytical efficiency.

1. OETA Reporting

The OETA metric would measure a carrier's success in meeting its estimated arrival times for shipments. The Board proposes to define OETA as the estimated time of arrival that the rail carrier provides when the shipper tenders the bill of lading or when the rail carrier receives the shipment from an interchanging carrier. Class I carriers would report, for shipments moving in manifest service, the percentage of weekly shipments that were delivered to destination no later than 24 hours after the OETA,⁶ out of all shipments in manifest service on the carrier's system during that week.

⁶ In Reciprocal Switching, the Board had established an OETA standard under which “cars arriving more than 24 hours before the OETA will count against the carrier.” Reciprocal Switching, EP 711 (Sub-No. 2), slip op. at 39. Here, under the Board's proposed rule, any arrivals before the OETA, including those more than 24 hours early, would be counted as on-time deliveries. In a rule intended to facilitate the Board's monitoring of network-wide performance to detect developing trends and changes in service levels (as opposed to establishing a standard for providing relief in an individual case), it is most helpful to obtain a clear picture of whether carriers are delivering shipments later than anticipated. Treating all early deliveries as on time in this network-focused reporting metric does not mean that early deliveries might not be relevant to relief sought in a particular case. See Pol'y Statement on Demurrage & Accessorial Rules & Charges, FD 757, slip op. at 12 (STB served Apr. 30, 2020) (“[B]unching should be addressed on a case-by-case basis in order to permit the Board to properly consider all relevant circumstances pertaining to an assessment of demurrage.”).

OETA reporting would give the Board insight into the timeliness of deliveries of manifest traffic system-wide. Late deliveries can, among other things, lead to supply chain disruptions, which can, in some instances, cause shippers to suspend operations. Chronic late deliveries may also force shippers to order additional shipments that would otherwise be unnecessary, and in some instances, encourage shippers to maintain unnecessarily large private car fleets to compensate for delays to shipments as well as to their own cars delayed in transit. These shipper actions can create ripple effects, leading to increased railroad congestion. Monitoring timeliness through OETA reporting would therefore advance the Board's objective of ensuring rail service reliability, enabling the Board to take more informed and expeditious action where necessary, including through informal engagement.

2. ISP Reporting

The proposed ISP metric would measure a rail carrier's success in performing local placements (“spots”) and pick-ups (“pulls”) of loaded railcars and unloaded private or shipper-leased railcars at shippers' or receivers' facilities during a planned service window. The metric would not apply to unit trains or intermodal traffic.

The ISP metric would be calculated by comparing the number of cars for which the carrier successfully completed the requested placements or pick-ups to the number of cars for which the shipper or receiver, by the applicable cut-off time, requested a placement or pick-up. For example, if over the course of a reporting period, a carrier delivers nine of 10 requested cars within the first service window and pulls seven of 10 requested cars during a second service window, the carrier's ISP metric would be 80%.⁷

⁷ The Board adopted an ISP performance standard in Reciprocal Switching that measured ISP by considering the proportion of service windows in which the carrier successfully spotted or pulled all requested traffic. See Reciprocal Switching, EP 711 (Sub-No. 2), slip op. at 52. For the Board's purpose here—monitoring local service reliability across a carrier's rail network and at the operating division level and observing changes in service levels, rather than setting a standard for use in individual reciprocal switching proceedings—the per-car measurement would provide more informative data about each carrier's overall performance in spotting and pulling cars within designated service windows. At least one carrier already tracks performance on a per car basis. See Reciprocal Switching, EP 711 (Sub-No. 2), slip op. a 54 (“CN states that it tracks local performance on a per-car basis.”).

Under the proposed rule, carriers would report ISP performance both at the system level and at the operating division level. For reporting at the operating division level, carriers would establish reporting regions using any geographic boundaries that they choose, provided that they identify the boundaries as part of their reporting, consistent with their business practices.

Comments

Interested persons will be invited to comment on the Board's proposals regarding PTC-related expenditure reporting and service data reporting. Comments will be due by October 30, 2025. Replies may be filed by November 13, 2025.

The Board specifically seeks comment on whether to include unit and intermodal traffic in the OETA and ISP metrics. As it pertains to OETA, the Board has stated that, based on the agency's experience, unit trains generally do not have schedules and run at various, usually irregular times. Reciprocal Switching, EP 711 (Sub-No. 2), slip op. at 38. Though some railroads have trip plans based on the unique schedule for each unit train that are applied to each car on the train, the most recent information collected by the Board suggests some railroads do not currently produce trip plans for unit trains. Id. As it pertains to ISP, the Board has observed that unit trains are not switched or spotted and pulled in the same manner as manifest traffic. Id. at 59. The Board has also stated that, for intermodal movements, when traffic is transferred between a rail carrier and another mode of transportation, those transfers do not involve local service similar to other traffic. Id.

Environmental Review

The proposed rule modifications under 49 CFR parts 1241 and 1251 are categorically excluded from environmental review under 49 CFR 1105.6(c).

Regulatory Flexibility Act

The Regulatory Flexibility Act of 1980 (RFA), 5 U.S.C. 601-612, generally requires a description and analysis of new rules that would have a significant economic impact on a substantial number of small entities. In drafting a rule, an agency is required to: (1) assess the effect that its regulation will have on small entities; (2) analyze effective alternatives that may minimize a regulation's impact; and (3) make the analysis available for public comment. 5 U.S.C. 601-604. In its notice of proposed rulemaking, the agency must either include an initial regulatory flexibility analysis, § 603(a), or certify that the proposed rule would not have a “significant impact on a substantial number of small entities,” § 605(b). The impact must be a direct impact on small entities “whose conduct is circumscribed or mandated” by the proposed rule. White Eagle Coop. Ass'n v. Conner, 553 F.3d 467, 480 (7th Cir. 2009).

The data reporting changes proposed here would apply only to Class I railroads—the nation's largest. For the purpose of RFA analysis for rail carriers subject to the Board's jurisdiction, the Board defines a “small business” as including only Class III carriers—the nation's smallest.⁸ Accordingly, pursuant to 5 U.S.C. 605(b), the Board certifies that the regulatory changes proposed herein would not have a significant economic impact on a substantial number of small entities within the meaning of the RFA.

⁸ See Small Entity Size Standards Under the Regul. Flexibility Act, EP 719 (STB served June 30, 2016). Class I carriers have annual operating revenues of $1,074,600,816 or more (in 2024 dollars); Class III rail carriers have annual operating revenues of $48,237,637 or less (in 2024 dollars). The Board calculates the revenue deflator factor annually and publishes the railroad revenue thresholds in decisions and on its website. 49 CFR 1201.1-1; Indexing the Ann. Operating Revenues of R.Rs., EP 748 (STB served June 24, 2025).

A copy of this decision will be served upon the Chief Counsel for Advocacy, Office of Advocacy, U.S. Small Business Administration.

Paperwork Reduction Act

Under the Paperwork Reduction Act (PRA), 44 U.S.C. 3501-3521, Office of Management and Budget (OMB) regulations at 5 CFR 1320.8(d), and the Appendix below, the Board seeks comment about the impact of proposed changes to the collection “Class I Railroad Annual Report” (OMB Control No. 2140-0009) and the proposed new collection of service data from Class I carriers, pursuant to OMB Control Number 2140-XXXX, concerning: (1) whether the proposed collections of information, which is further described in the Appendix below, are necessary for the proper performance of the functions of the Board, including whether the collection has practical utility; (2) the accuracy of the Board's burden estimates; (3) ways to enhance the quality, utility, and clarity of the information collected; and (4) ways to minimize the burden of the collection of information on the respondents, including the use of automated collection techniques or other forms of information technology, when appropriate.

The Board estimates that the proposed rule changes and the related modifications to an existing data collection and a new data collection would reduce the total annual hourly burdens from 1,750 hours to 1,512 hours, resulting in an overall net burden reduction on respondents of 238 hours, as detailed below in the Appendix below. There are no changes in non-hourly burdens associated with the Class I Railroad Annual Report collection, and there are no non-hourly burdens associated with the new collection. The Board welcomes comments on the estimates of the reduction in time and costs of the collections. The proposed rule modifications will be submitted to OMB for review as required under 44 U.S.C. 3507(d) and 5 CFR 1320.11. Comments received by the Board regarding the information collections will also be forwarded to OMB for its review when the final rule is published.

Executive Order 12866, as modified by Executive Order 14215, provides that the Office of Information and Regulatory Affairs (OIRA) will review all significant rules. OIRA has determined that this rule is not significant. The Board believes this proposed action would be net deregulatory under Executive Order 14192.

List of Subjects

49 CFR Part 1241

Railroads; Reporting and recordkeeping requirements.

49 CFR Part 1251

Railroads; Reporting and recordkeeping requirements.

It is ordered:

1. The Board proposes to amend its regulations as set forth in this decision. Notice of the proposed rules will be published in the Federal Register.

2. Comments from interested parties are due by October 30, 2025. Replies may be filed by November 13, 2025.

3. A copy of this decision will be served upon the Chief Counsel for Advocacy, Office of Advocacy, U.S. Small Business Administration.

4. This decision is effective on its date of service.

September 25, 2025.
By the Board, Board Members Fuchs, Hedlund, and Schultz.
Jeffrey Herzig,
Clearance Clerk.

For the reasons set forth in the preamble, and under the authority of 49 U.S.C. 1321 and 11145, the Surface Transportation Board proposes to amend parts 1241 and 1251 of title 49, chapter X, of the Code of Federal Regulations as follows:

PART 1241—ANNUAL, SPECIAL, OR PERIODIC REPORTS—CARRIERS SUBJECT TO PART I OF THE INTERSTATE COMMERCE ACT

1. The authority citation for part 1241 continues to read as follows:

Authority: 49 U.S.C. 11145.

2. Remove the note to part 1241.

3. Remove § 1241.11(b).

4. Redesignate § 1241.11(a) as § 1241.11.

5. Add note after § 1241.11 to read as follows:

Note 1 to § 1241.11. The report forms prescribed by § 1241.11 are available at the Surface Transportation Board website.

PART 1251

6. Add part 1251 to read as follows:

PART 1251—RAILROAD SERVICE DATA REPORTING

Sec.
1251.1 Definitions
1251.2 Service metric reporting

Authority: 49 U.S.C. 1321 and 49 U.S.C. 11145.

§ 1251.1 Definitions.

The following definitions apply to this part:

Affiliated companies has the same meaning as “affiliated companies” in Definition 5 of the Uniform System of Accounts (49 CFR part 1201, subpart A).

Cut-off time means the deadline for requesting service within a service window, as determined in accordance with the rail carrier's established protocol.

Delivery means when a shipment is actually placed at a designated destination or is constructively placed at a local railroad yard that is convenient to the designated destination. In the case of an interline movement, a shipment will be deemed to be delivered to the receiving carrier or its agent or affiliated company when the shipment is moved past a designated automatic equipment identification reader at the point of interchange or is placed on a designated interchange track, depending on the specific interchange that is involved. For purposes hereof, constructive placement of a shipment at a local yard constitutes delivery only when:

(1) The recipient has the option, by prior agreement between the rail carrier and the customer, to have the rail carrier hold the shipment pending the recipient's request for delivery to the designated destination and the recipient has not yet requested delivery; or

(2) The recipient is unable to accept delivery at the designated destination.

Designated destination means the final destination as specified in the bill of lading or, in the case of an interline movement, the interchange where the shipment is transferred to the receiving carrier, its agent, or affiliated company.

Industry spot and pull means the local placement (“spot”) and pick-up (“pull”) of loaded railcars (regardless of ownership) at a shipper's or receiver's facility, and the spot and pull of unloaded private or shipper-leased railcars at a shipper's or receiver's facility. Industry spot and pull does not include spot and pull of unloaded railroad-owned or leased cars.

Rail carrier(s) means a Class I rail carrier.

Manifest traffic means shipments that move in carload or non-unit train service.

Original estimated time of arrival or OETA means the estimated time of arrival that the rail carrier provides when the shipper tenders the bill of lading or when the rail carrier receives the shipment from an interchanging carrier.

Planned service window means a service window for which the shipper or receiver requested local service, provided that the shipper or receiver made its request by the cut-off time for that window.

Receipt of a shipment means when the preceding rail carrier provides a time stamp or rail tracking message that the shipment has been delivered to the interchange.

Service window means a window in which the rail carrier offers to perform local service (placements and/or pick-ups of rail shipments) at a shipper's or receiver's facility. A service window must be made available by a rail carrier with reasonable advance notice to the shipper or receiver and in accordance with the carrier's established protocol.

Shipment means a loaded railcar that is designated in a bill of lading.

Time of arrival means the time that a shipment is delivered to the designated destination.

§ 1251.2 Service metrics reporting.

All rail carriers shall report to the Board on a weekly basis, in a manner and form determined by the Board, the data described in this section. The service metrics in this section apply only to the data collection contemplated under this part.

(a) Original estimated time of arrival.

(1) OETA metric. The OETA metric is the percentage of shipments on a carrier's system that moved in manifest service and were delivered to the designated destination no later than 24 hours after the OETA, out of all shipments on the carrier's system that moved in manifest service during that week. For the purpose of calculating the OETA metric, once a carrier has communicated an OETA to a customer, that time shall not be changed by any subsequent changes to the original trip plan of the car, unless the change to the original trip plan is made by the shipper.

(2) OETA applicability. The OETA metric applies to shipments that travel as manifest traffic within the United States and the U.S. portion of manifest traffic movements between the United States and another country, in the latter case when the carrier's general practice with respect to such movements is to record receipt or delivery of the shipment at a point at or near the U.S. border (including where the carrier receives the shipment from or delivers the shipment to an affiliated carrier).

(b) Industry spot and pull (ISP).

(1) ISP metric. The ISP metric is the percentage of scheduled spots or pulls (i.e., those requested by a shipper or receiver before the applicable cut-off time) that were successfully performed during the planned service windows, out of the total number of spots or pulls that were scheduled for that week. A rail carrier must report the ISP metric for each of its operating divisions and for the carrier's overall system. For reporting at the operating division level, a rail carrier may establish reporting regions using any geographic boundaries it chooses, provided that the rail carrier identifies the boundaries as part of its reporting.

(i) Failure to spot a constructively placed car that has been ordered in by the cut-off time applicable to the customer for a planned service window shall be included as a failure in calculating the ISP metric.

(ii) Failure to spot “spot on arrival” railcars (i.e., railcars that may be placed without placement instructions) for a planned service window shall be included as a failure in calculating the ISP metric only if the railcars arrived at the local yard that services the customer and were ready for local service before the cut-off time applicable to the customer.

(iii) If a rail carrier cancels a service window, other than at the shipper's or receiver's request, each planned spot or pull from the cancelled service window shall be included as a failure in calculating the ISP metric.

(iv) When a rail customer causes a carrier to miss a spot or a pull during a planned service window, those spots or pulls will not be considered failures in calculating the ISP metric.

(2) ISP applicability. The ISP metric shall not include unit trains or intermodal traffic.

Appendix

Paperwork Reduction Act Collection

Information Collections

Summary: As part of its continuing effort to reduce paperwork burdens, and as required by the Paperwork Reduction Act of 1995, the Surface Transportation Board gives notice that it is requesting from the Office of Management and Budget approval for the modification and extension of existing collection with OMB Control Number 2140-0009. This notice is in connection with a notice of proposed rulemaking proposing to modify a rule to reduce the burdens for the collection. The Surface Transportation Board also gives notice that it is requesting from the Office of Management and Budget approval for a new collection with OMB Control Number 2140-XXXX. The proposed modification and extension and the new collection necessitated by this notice of proposed rulemaking is expected to improve the collection of service performance data from Class I carriers.

Description of Collections

In this notice, the Board is requesting comments on the following information collections:

Collection 1

Title: Class I Railroad Annual Report.

OMB Control Number: 2140-0009.

Form Number: R-1.

Type of Review: Modification of Existing Collection.

Respondents: Class I railroads.

Number of Respondents: Six.

Frequency of Response: Annual (Class I Railroad Annual Report (Form R-1)).

Estimated Time per Response: No more than approximately 220 hours. This estimate includes time spent reviewing instructions; searching existing data sources; gathering and maintaining the data needed; completing and reviewing the collection of information; and converting the data from each carrier's individual accounting system to the Board's Uniform System of Accounts, which ensures that the information will be presented in a consistent format across all reporting railroads. It also incorporates a reduction on burden hours for the changes in this decision.

Frequency of Response: Annual.

Total Annual Hour Burden: No more than approximately 1,356 hours, as provided in Table 1—Total Estimated Annual Burden Hours below.

Table 1—Total Estimated Annual Burden Hours for Respondents
Type of filing | Estimated hours per response | Number of respondents | Estimated frequency | Total burden hours
One-time burden hours to adjust removing PTC entries (amortized over three years until renewal) | 6 | 6 | 1 | 36
Annual R-1 preparation | 220 | 6 | 1 | 1,320
Total Burden Hours |  |  |  | 1,356

Total Annual “Non-Hour Burden” Cost for R-1 Reporting: The respondent carriers are required by statute to submit a copy of their annual R-1 report, signed under oath. See 49 U.S.C. 11145. A hard copy of the report is mailed to the agency at an estimated cost of $12.00 per respondent, resulting in a total annual non-burden-hour cost of approximately $72.00 for all six respondents. No other non-hour costs for operation, maintenance, or purchase of services associated with this collection have been identified, as: (a) this collection will not impose start-up costs on respondents; and (b) an additional copy of the report is submitted to the agency electronically.

Needs and Uses: Annual reports are required to be filed by Class I railroads under 49 U.S.C. 11145. The reports show operating expenses and operating statistics of the carriers. Operating expenses include costs for right-of-way and structures, equipment, train and yard operations, and general and administrative expenses. Operating statistics include such items as car-miles, revenue-ton-miles, and gross ton-miles. These reports are used by the Board, other federal agencies, and industry groups to monitor and assess railroad industry growth, financial stability, traffic, and operations, and to identify industry changes that may affect national transportation policy. Information from these reports is also entered into the Uniform Railroad Costing System (URCS), which is the Board's general purpose costing methodology. URCS, which was developed by the Board pursuant to 49 U.S.C. 11161, is used as a tool in rail rate proceedings (in accordance with 49 U.S.C. 10707(d)) to calculate the variable costs associated with providing a particular service. The Board also uses information from this collection to more effectively carry out other regulatory responsibilities, including: acting on railroad requests for authority to engage in Board-regulated financial transactions such as mergers, acquisitions of control, and consolidations, see 49 U.S.C. 11323-11324; analyzing the information that the Board obtains through the annual railroad industry waybill sample, see 49 CFR part 1244; measuring off-branch costs in railroad abandonment proceedings, in accordance with 49 CFR 1152.32(n); developing the “rail cost adjustment factors,” in accordance with 49 U.S.C. 10708; and conducting investigations and rulemakings.

Information from certain schedules contained in these reports is compiled and published on the Board's website, https://www.stb.gov/reports-data/economic-data/. Information in these reports is not available from any other source.

Positive Train Control (PTC) is a federally mandated safety system designed to prevent train-to-train collisions, over-speed derailments, incursions into established work zone limits, and the movement of a train through a switch left in the wrong position. 49 U.S.C. 20157(i)(5). Since Congress first enacted PTC requirements, Class I railroads have incurred substantial PTC-related development and installation costs, which have been reflected in R-1 reports. Additionally, since 2013, railroads have been required to provide supplemental PTC expense and other information as part of their R-1 reports.

According to the Association of American Railroads, this separate reporting requires the separation of costs that are already integrated into other assets and maintenance costs, and so carving out PTC-related assets and expenses is challenging and requires allocations and estimates. As a result, this reporting of already-implemented expenditures is significantly time-consuming and expensive. Consistent with E.O. 14219 and in light of FRA's determination that PTC implementation is complete, the benefits of the PTC Supplement cost reporting no longer justify the burden and cost requiring that detailed information. Ending that reporting requirement would simplify the annual R-1 reports filed by Class I rail carriers. Any ongoing PTC-related expenditures would be reflected in the R-1 capital investment and expenses total. Therefore, under the Board's proposed modifications, Class I railroads would no longer be required to provide supplemental PTC data.

Description of Collection 2

Title: Class I carrier weekly service reporting.

OMB Control Number: 2140-XXXX.

Form Number: None.

Type of Review: New Information Collection.

Respondents: Class I railroads.

Number of Respondents: Six.

Frequency of Response: Weekly.

Estimated Time per Response: No more than approximately 30 minutes per response. This estimate includes time spent reviewing instructions; searching existing data sources; gathering and maintaining the data needed; completing and reviewing the collection of information; and formatting the data according to Board instructions.

Total Annual Hour Burden: No more than approximately 156 hours, as provided in Table 2—Total Estimated Annual Burden Hours below.

Table 2—Total Estimated Annual Burden Hours for Respondents
Type of filing | Estimated hours per response | Number of respondents | Estimated frequency | Total burden hours
Weekly reporting on service reliability: original estimated time of arrival (OETA) and industry spot and pull (ISP) | 0.5 | 6 | 52 | 156
Total Burden Hours |  |  |  | 156

Total Annual “Non-Hour Burden” Cost for Service Data Reporting: There are no non-hourly burdens, as the reports will be submitted electronically.

Needs and Uses: The Board collects a range of data from Class I carriers that allow the Board and shippers to monitor railroad service performance. Under the Board's proposal, Class I carriers would report two measures of service reliability, original estimated time of arrival (OETA) and industry spot and pull (ISP), on a weekly basis. The proposed data collection would enable the Board to monitor ongoing railroad service trends and promptly identify and address possible future regional and national service lapses.

The proposal would also benefit rail shippers and stakeholders, by allowing them to better plan operations and make informed business decisions based on publicly available, real-time data, and their own analysis of performance trends over time. Class I carriers have reported similar information in other proceedings using a process that, to the Board's understanding, can be largely automated after expeditious programming, and so the collection of this information here would not be unduly burdensome. Collection of OETA and ISP data will further the rail transportation policy goals of 49 U.S.C. 10101. It will ensure the development and continuation of a sound rail transportation system with effective competition among rail carriers and with other modes, to meet the needs of the public and the national defense (49 U.S.C. 10101(4)), foster sound economic conditions in transportation and ensure effective competition (49 U.S.C. 10101(5)), and encourage honest and efficient management, (49 U.S.C. 10101(9)). This information is not available from other sources.

[FR Doc. 2025-19009 Filed 9-29-25; 8:45 am]

BILLING CODE 4915-01-P